DEPARTMENT OF AGRICULTURE

Forest Service

Boulder Project; Chequamegon-Nicolet National Forest, Oconto and Langlade Counties, Wisconsin

AGENCY: Forest Service, USDA.

ACTION: Notice; intent to prepare environmental impact statement.

SUMMARY: The Forest Service will prepare an environmental impact statement (EIS) to document the analysis and disclose the environmental impacts of proposed land management activities, and corresponding alternatives, within the Boulder Project area.

The purpose of the Boulder Project is to implement land management activities that are consistent with direction in the Chequamegon-Nicolet National Forest Land and Resource Management Plan (Forest Plan) and respond to specific needs identified in the project area. The project-specific needs include: addressing forest age and density, stand tending and reforestation, road closures, and wildlife habitat maintenance and improvement.

The Boulder Project area is located primarily on National Forest System lands, administered by the Lakewood/Laona Ranger District, north of Lakewood, Wisconsin. The legal description for the project area is: Township 31 North, Range 14 East, sections 1 and 12; Township 31 North, Range 15 East, sections 1-36; Fourth Principal Meridian.

DATES: Comments concerning the proposed land management activities should be received within 30 days following publication of this notice to receive timely consideration in the preparation of the draft EIS.

ADDRESSES: Send written comments concerning the proposed land management activities or requests to be placed on the project mailing list to: Anne Archie, c/o Paul Sweeney, NEPA Coordinator; Attention: Boulder Project, Lakewood/Laona Ranger District, 15085 State Rd. 32, Lakewood, Wisconsin 54138. You are welcome and encouraged to submit electronic comments in acceptable formats [plain text (.txt), rich text (.rtf) or Word (.doc)] to: comments-eastern-chequamegon-nicolet-lakewood@fs.fed.us.

FOR FURTHER INFORMATION CONTACT: Paul Sweeney, Project Leader/NEPA Coordinator, Lakewood/Laona Ranger District, 15085 State Rd. 32, Lakewood, Wisconsin 54138, phone (715) 276-6333, e-mail: pfsweeney@fs.fed.us.

SUPPLEMENTARY INFORMATION: The information presented in this notice is included to help the reviewer determine if they are interested in or potentially affected by the proposed land management activities. The information presented in this notice is summarized. Those who wish to provide comments, or are otherwise interested in or affected by the project, are encouraged to obtain additional information from the contact identified in the FOR FURTHER INFORMATION CONTACT section.

Proposed Actions—The proposed land management activities (proposed actions) include the following, with approximate acreage and mileage values: (1) Forest age and density—selection harvest 1747 acres, thin 2835 acres, clearcut harvest 489 acres, overstory removal harvest 79 acres, shelterwood harvest 382 acres (other actions needed include 1.7 miles of road construction and 14.7 miles of road reconstruction); (2) stand tending and reforestation—hand release 1589 acres of young plantations, prescribe burn 26 acres, plant 1338 acres of white pine and eastern hemlock in the understories of existing stands, plant fully on 54 acres, mechanically scarify 259 acres for natural regeneration, and fence 29 acres to protect hemlock; (3) road closures—close 1.4 miles of roads currently open, and decommission from the Forest's classified road system 32.5 miles of roads; (4) wildlife habitat maintenance and improvement—hand release 99 acres of wildlife openings using brush cutters, and plant fruit-bearing shrubs on 20 acres.

Responsible Official—The Forest Supervisor of the Chequamegon-Nicolet National Forest, Anne Archie, is the Responsible Official for making project-level decisions from the project.

Decision Space—Decisionmaking will be limited to specific activities relating to the proposed actions. The primary decision to be made will be whether or not to implement the proposed actions or another action alternative that responds to the project's purpose and needs.

Project History—In 2004, the Forest Service was developing a proposal for the Boulder Opportunity Area. In January of 2005, the Boulder Project is being presented to the public for comment (scoping) prior to undertaking preparation of an Environmental Assessment. Years of experience have shown that the effects of implementing similar activities in the area are not significant. We therefore do not feel that an EIS is required. However, due to the increase in appeals and litigation and for wise fiscal efficiency, an EIS will be prepared for the Boulder Project.

Preliminary Issues—Comments from American Indian tribes, the public, and other agencies will be considered in identifying preliminary issues. Issues raised in similar projects have included: Effects to threatened, endangered, and sensitive species; effects to management indicator species; effects from road construction and road closures; effects to motorized recreational access.

Public Participation—The Forest Service is seeking comments from Federal, State, and local agencies, as well as local Native American tribes and other individuals or organizations that may be interested in or affected by the proposed actions. Comments received in response to this notice will become a matter of public record. While public participation is welcome at any time, comments on the proposed actions received within 30 days of this notice will be especially useful in the preparation of the draft EIS. Timely comments will be used to identify: Potential issues with the proposed actions, alternatives to the proposed actions that respond to the identified needs and significant issues, and potential environmental effects of the proposed actions and alternatives considered in detail. In addition, the public is encouraged to contact and/or visit Forest Service officials at any time during the planning process.

The decisions associated with the analysis of this project will be consistent with the Chequamegon-Nicolet Forest Plan.

Estimated Dates for Filing—The draft EIS is expected to be filed with the Environmental Protection Agency and available for public review in December 2005. A 45-day comment period will follow publication of a Notice of Availability of the draft EIS in the Federal Register. Comments received on the draft EIS will be used in preparation of the final EIS, expected in April 2006. A Record of Decision (ROD) will also be issued at that time along with the publication of a Notice of Availability of the final EIS and ROD in the Federal Register.

Reviewer's Obligation to Comment—The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS stage but that are not raised until after completion of the final EIS may be waived or dismissed by the courts. City of Angoon v. Hodel, 803 F.2d 1016, 1022 (9th Cir, 1986), and Wisconsin Heritages Inc. v. Harris, 490 F.Supp. 1334, 1338 (E.D. Wis., 1980). Because of these court rulings, it is very important that those interested in this proposed action participate by the close of the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Dated: January 5, 2005.
Anne Archie,
Forest Supervisor, Chequamegon-Nicolet National Forest.

[FR Doc. 05-482 Filed 1-10-05; 8:45 am]

BILLING CODE 3410-11-P